DEPARTMENT OF ENERGY

Federal Energy Regulatory Commission

Combined Notice of Filings #1

June 4, 2008.

Take notice that the Commission received the following electric corporate filings:

Docket Numbers: EC08-96-000.

Applicants: Armstrong Energy Limited Ptnshp, LLLP; TPF APT Holdings, LLC; Warburg Pincus Private Equity IX, L.P.; Pleasants Energy LLC; Troy Energy LLC; Tenaska Power Fund, L.P.; Calumet Co-Investment Fund, L.P., IPA Central, LLC.

Description: Application of TPF APT Holdings LLC et al for necessary approvals for indirect transfer to Buyer of all ownership interests in Armstrong, Pleasants, Troy and CEDT, each of which owns and operates an existing facility.

Filed Date: 05/30/2008.

Accession Number: 20080603-0037.

Comment Date: 5 p.m. Eastern Time on Friday, June 20, 2008.

Docket Numbers: EC08-97-000.

Applicants: Otter Tail Corporation.

Description: Application for Authorization Under Section 203 of the Federal Power Act and Request for Expedited Action of Otter Tail Corporation.

Filed Date: 06/03/2008.

Accession Number: 20080603-5085.

Comment Date: 5 p.m. Eastern Time on Tuesday, June 24, 2008.

Take notice that the Commission received the following electric rate filings:

Docket Numbers: ER97-4345-023; ER98-511-011.

Applicants: OGE Energy Resources, Inc.; Oklahoma Gas and Electric Company.

Description: Oklahoma Gas and Electric Co et al submits a notice of change in status.

Filed Date: 05/30/2008.

Accession Number: 20080604-0031.

Comment Date: 5 p.m. Eastern Time on Friday, June 20, 2008.

Docket Numbers: ER04-617-003; ER99-3911-006.

Applicants: Black River Generation, LLC; Northbrook New York, LLC

Description: Black River Generation, LLC et al. submits a compliance filing pursuant to Order 697.

Filed Date: 06/02/2008.

Accession Number: 20080604-0049.

Comment Date: 5 p.m. Eastern Time on Monday, June 23, 2008.

Docket Numbers: ER05-1178-013; ER05-1191-013.

Applicants: Gila River Power, L.P.; Union Power Partners, L.P.

Description: Project Companies submit Notice of Change in Status relating to their upstream ownership structure.

Filed Date: 05/30/2008.

Accession Number: 20080604-0037.

Comment Date: 5 p.m. Eastern Time on Friday, June 20, 2008.

Docket Numbers: ER07-357-003.

Applicants: Fenton Power Partners I, LLC.

Description: Fenton Power Partners I, LLC submits changes to its market-based rate tariff to comply with Order 697.

Filed Date: 05/05/2008.

Accession Number: 20080508-0212.

Comment Date: 5 p.m. Eastern Time on Wednesday, June 11, 2008.

Docket Numbers: ER08-878-001.

Applicants: Wisconsin Power and Light Company.

Description: Wisconsin Power and Light Company submits revised Original Sheets 9 to Substitute Original Sheet 9A etc to the Balancing Area Operations Coordination Agreement pursuant to Order 614.

Filed Date: 06/02/2008.

Accession Number: 20080604-0032.

Comment Date: 5 p.m. Eastern Time on Wednesday, June 11, 2008.

Docket Numbers: ER08-1032-000.

Applicants: Westar Energy, Inc.

Description: Westar Energy, Inc submits Second Revised Sheets 4 and 1 to the Wholesale Electric Service Agreement commencing 2/1/088, designated First Revised Rate Schedule FERC 245 between Westar and the City of Vermillin, Kansas etc.

Filed Date: 05/30/2008.

Accession Number: 20080603-0095.

Comment Date: 5 p.m. Eastern Time on Friday, June 20, 2008.

Docket Numbers: ER08-1033-000.

Applicants: Westar Energy, Inc.

Description: Westar Energy, Inc submits a Petition for Approval of Settlement Agreement.

Filed Date: 05/30/2008.

Accession Number: 20080603-0100.

Comment Date: 5 p.m. Eastern Time on Friday, June 20, 2008.

Docket Numbers: ER08-1034-000.

Applicants: Westar Energy, Inc.

Description: Westar Energy Inc submits the Kansas and Electric Company submits Second Revised Sheet 11 and 1 to the Wholesale Electric Service Agreement commencing 2/1/88 as First Revised Rate Schedule 175.

Filed Date: 05/30/2008.

Accession Number: 20080603-0094.

Comment Date: 5 p.m. Eastern Time on Friday, June 20, 2008.

Docket Numbers: ER08-1038-000.

Applicants: New England Power Pool.

Description: The New England Power Pool Participants Committee submits signature pages of the New England Power Pool Agreement dated as of 9/1/71.

Filed Date: 05/30/2008.

Accession Number: 20080603-0093.

Comment Date: 5 p.m. Eastern Time on Friday, June 20, 2008.

Docket Numbers: ER08-1047-000.

Applicants: Westar Energy, Inc.

Description: Westar Energy, Inc. submits a Petition for Approval of Settlement Agreement.

Filed Date: 05/30/2008.

Accession Number: 20080603-0117.

Comment Date: 5 p.m. Eastern Time on Friday, June 20, 2008.

Docket Numbers: ER08-1050-000.

Applicants: Dragon Energy LLC.

Description: Dragon Energy LLC submits an application for authorization to make wholesale sales of energy and capacity at negotiated, market-based rates.

Filed Date: 06/02/2008.

Accession Number: 20080603-0112.

Comment Date: 5 p.m. Eastern Time on Monday, June 23, 2008.

Docket Numbers: ER08-1051-000.

Applicants: NSTAR Electric Company.

Description: NSTAR Electric Company submits its Annual Informational filing containing the true-up of billings under Schedule 21-NSTAR to Schedule 11 of the ISO New England Inc., Transmission, Markets and Services Tariff, FERC Electric Tariff 3 etc.

Filed Date: 06/02/2008.

Accession Number: 20080603-0118.

Comment Date: 5 p.m. Eastern Time on Monday, June 23, 2008.

Docket Numbers: ER08-1056-000.

Applicants: Entergy Services, Inc.

Description: Entergy Services, Inc. on behalf of the Entergy Operating Companies submits the rates to implement the decision of the Commission as contained in Opinion 480 et al.

Filed Date: 05/30/2008.

Accession Number: 20080603-0120.

Comment Date: 5 p.m. Eastern Time on Friday, June 20, 2008.

Docket Numbers: ER08-1057-000.

Applicants: Entergy Services, Inc.

Description: Entergy Services, Inc. on behalf of the Entergy Operating Companies submits a Summary of Redetermined Rates etc. for the Point-to-Point Transmission Service Tariff.

Filed Date: 05/30/2008.

Accession Number: 20080603-0119.

Comment Date: 5 p.m. Eastern Time on Friday, June 20, 2008.

Docket Numbers: ER08-1058-000.

Applicants: Southern California Edison Company.

Description: Southern California Edison Company submits a letter agreement between the Transmission and Distribution Business Unit of SCE and the Generation Business Unit of SCE.

Filed Date: 06/02/2008.

Accession Number: 20080603-0121.

Comment Date: 5 p.m. Eastern Time on Monday, June 23, 2008.

Docket Numbers: ER08-1059-000; ER06-615-024; ER07-1257-006; ER08-519-002.

Applicants: California Independent System Operator Corporation.

Description: California Independent System Operator Corporation submits an amendment to both the current ISO Tariff and the CAISO's Market Redesign and Technology Upgrade Tariff to enhance provisions under those tariffs relating to Congestion etc.

Filed Date: 05/30/2008.

Accession Number: 20080604-0041.

Comment Date: 5 p.m. Eastern Time on Friday, June 20, 2008.

Docket Numbers: ER08-1060-000.

Applicants: American Electric Power Service Corporation.

Description: American Electric Power System submits an amendment to Part IV of the Open Access Transmission Tariff to FERC Electric Tariff, Third Revised Volume 6.

Filed Date: 06/02/2008.

Accession Number: 20080604-0033.

Comment Date: 5 p.m. Eastern Time on Monday, June 23, 2008.

Docket Numbers: ER08-1061-000.

Applicants: American Transmission Company LLC.

Description: American Transmission Co., LLC submits an executed Distribution Transmission Interconnection Agreement with Lake Mills Light & Water Department dated 5/1/08.

Filed Date: 06/02/2008.

Accession Number: 20080604-0036.

Comment Date: 5 p.m. Eastern Time on Monday, June 23, 2008.

Docket Numbers: ER08-1063-000.

Applicants: Southern Company Services, Inc.

Description: Southern Companies submits Revision 1 to the Service Agreement for Network Integration Transmission Service between Southern Companies and Georgia Transmission Corporation, an Electric Membership Corporation.

Filed Date: 06/03/2008.

Accession Number: 20080604-0035.

Comment Date: 5 p.m. Eastern Time on Tuesday, June 24, 2008.

Docket Numbers: ER08-1064-000.

Applicants: Midwest Independent Transmission System Operator, Inc.

Description: Midwest Independent Transmission System Operator, Inc. et al. submit proposed revisions to Attachment 3, Interregional Coordination Process of their Joint Operating Agreement.

Filed Date: 06/03/2008.

Accession Number: 20080604-0034.

Comment Date: 5 p.m. Eastern Time on Tuesday, June 24, 2008.

Docket Numbers: ER08-1062-000.

Applicants: Westar Energy, Inc.

Description: Westar Energy, Inc. submits Petition for Approval of Settlement Agreement.

Filed Date: 05/30/2008.

Accession Number: 20080604-0038.

Comment Date: 5 p.m. Eastern Time on Friday, June 20, 2008.

Take notice that the Commission received the following open access transmission tariff filings:

Docket Numbers: OA08-92-000.

Applicants: Entergy Services Inc.

Description: Motion of Entergy Services, Inc. for Extension of the Limited Waiver of Order No. 890-A Compliance Requirement.

Filed Date: 05/30/2008.

Accession Number: 20080530-5146.

Comment Date: 5 p.m. Eastern Time on Friday, June 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-13036 Filed 6-10-08; 8:45 am]

BILLING CODE 6717-01-P